DEPARTMENT OF THE INTERIOR

National Park Service

[NPS-WASO-NAGPRA-NPS0030388; PPWOCRADN0-PCU00RP14.R50000]

Notice of Inventory Completion: California Department of Transportation, Sacramento, CA, and Fowler Museum at the University of California Los Angeles, Los Angeles, CA

AGENCY: National Park Service, Interior.

ACTION: Notice.

SUMMARY: The California Department of Transportation and the Fowler Museum at the University of California Los Angeles (UCLA) have completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the California Department of Transportation. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the California Department of Transportation at the address in this notice by August 5, 2020.

ADDRESSES: Sarah Allred, California Department of Transportation, P.O. Box 942874 MS 27, Sacramento, CA 94271-0001, telephone (916) 653-0013, email Sarah.Allred@dot.ca.gov.

SUPPLEMENTARY INFORMATION: Notice is here given in accordance with the Native American Graves Protection and Repatriation Act (NAGPRA), 25 U.S.C. 3003, of the completion of an inventory of human remains and associated funerary objects under the control of the California Department of Transportation, Sacramento, CA, and in the physical custody of the Fowler Museum at the University of California Los Angeles, Los Angeles, CA. The human remains and associated funerary objects were removed from Batiquitos Lagoon, San Diego County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made on behalf of the California Department of Transportation by the Fowler Museum at UCLA professional staff in consultation with representatives of the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; Pechanga Band of Luiseno Mission Indians of the Pechanga Reservation, California; Rincon Band of Luiseno Mission Indians of Rincon Reservation, California; San Pasqual Band of Diegueno Mission Indians of California; Sycuan Band of the Kumeyaay Nation; and the San Luis Rey Band of Luiseno Indians, a non-federally recognized Indian group (hereafter referred to as “The Consulted Tribes and Groups”).

History and Description of the Remains

In 1960 and 1961, human remains representing, at minimum, two individuals were removed from Batiquitos Lagoon in San Diego County, CA. They were excavated by R. H. Crabtree and Claude Warren as part of the UCLA Archaeological Survey under contract with the State Division of Beaches and Parks (now the Department of Parks and Recreation) for the Division of Highways (now the California Department of Transportation). The excavation site was in the proposed freeway (referred to at time of excavation as Highway 101, but now is Interstate 5) right-of-way. The collection was analyzed at UCLA and transferred to the Fowler Museum at UCLA for curation. Human remains consist of one sub-adult female individual and fragmentary human remains from a second individual (age/sex unknown). No known individuals were identified. The 14 associated funerary objects are 11 unmodified animal bones, one unmodified shell, one shell bead, and one soil sample. (Despite an exhaustive search by Fowler Museum staff, currently, eight additional unmodified animal bones among the associated funerary objects are absent.)

Radiocarbon dates between 5340 and 1940 B.C. obtained from two shell samples place the earliest occupation of the Batiquitos Lagoon site in the Early Holocene. That occupation was followed by a temporary abandonment of coastal sites due to strong environmental changes that resulted in the silting of the lagoon and the depletion of natural resources. Oral history of the Kumeyaay describes their oceanic origins and movements on the landscape. Over time, as environmental and social stresses occurred, coastal groups likely became interrelated with inland groups and relied upon each other. These relationships are reflected in their song cycles and sand paintings, as well as in the archeological record. The Kumeyaay locate Batiquitos within their traditional aboriginal territory. Moreover, geographical, oral traditional, archeological, ethnographic, and linguistic lines of evidence all support the existence of a cultural affiliation of the present-day Kumeyaay with the human remains listed in this notice.

Determinations Made by the California Department of Transportation

Officials of the California Department of Transportation have determined that:

• Pursuant to 25 U.S.C. 3001(9), the human remains described in this notice represent the physical remains of two individuals of Native American ancestry.

• Pursuant to 25 U.S.C. 3001(3)(A), the 14 objects described in this notice are reasonably believed to have been placed with or near individual human remains at the time of death or later as part of the death rite or ceremony.

• Pursuant to 25 U.S.C. 3001(2), there is a relationship of shared group identity that can be reasonably traced between the Native American human remains and associated funerary objects and the Campo Band of Diegueno Mission Indians of the Campo Indian Reservation, California; Capitan Grande Band of Diegueno Mission Indians of California (Barona Group of Capitan Grande Band of Mission Indians of the Barona Reservation, California; Viejas (Baron Long) Group of Capitan Grande Band of Mission Indians of the Viejas Reservation, California); Ewiiaapaayp Band of Kumeyaay Indians, California; Iipay Nation of Santa Ysabel, California (previously listed as Santa Ysabel Band of Diegueno Mission Indians of the Santa Ysabel Reservation); Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; and the Sycuan Band of the Kumeyaay Nation (hereafter referred to as “The Tribes”).

Additional Requestors and Disposition

Lineal descendants or representatives of any Indian Tribe or Native Hawaiian organization not identified in this notice that wish to request transfer of control of these human remains and associated funerary objects should submit a written request with information in support of the request to Sarah Allred, California Department of Transportation, P.O. Box 942874 MS 27, Sacramento, CA 94271-0001, telephone (916) 653-0013, email Sarah.Allred@dot.ca.gov, by August 5, 2020. After that date, if no additional requestors have come forward, transfer of control of the human remains and associated funerary objects to The Tribes may proceed.

The California Department of Transportation is responsible for notifying The Consulted Tribes and Groups that this notice has been published.

Dated: May 27, 2020.
Melanie O'Brien,
Manager, National NAGPRA Program.

[FR Doc. 2020-14399 Filed 7-2-20; 8:45 am]

BILLING CODE 4312-52-P